DEPARTMENT OF ENERGY

Federal Energy Regulatory Commission

[Docket No. RP03-162-003]

Trailblazer Pipeline Company; Notice of Compliance Filing

February 7, 2003.

Take notice that on January 31, 2003, Trailblazer Pipeline Company (Trailblazer) filed the following documents:

1. Exhibit No. TPC-1 (Revised): Testimony of Bruce H. Newsome on behalf of Trailblazer Pipeline Company, and Mr. Newsome's related affidavit.

2. Exhibit No. TPC-81 (Revised): Revised Tariff Sheets. Exhibit No. TPC-81 (Revised) is sponsored by Mr. Newsome.

Trailblazer states that the purpose of this filing is to comply with the hearing procedural schedule adopted January 17, 2003, in the above-captioned docket. Trailblazer notes that the tariff sheets are tendered for filing to be a part of its FERC Gas Tariff, Third Revised Volume No. 1, with an effective date of January 1, 2003.

Trailblazer states that copies of the filing have been mailed to all parties set out on the Commission's official service list in Docket No. RP03-162.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 12, 2003.

Magalie R. Salas,
Secretary.

[FR Doc. 03-3661 Filed 2-13-03; 8:45 am]

BILLING CODE 6717-01-P